SMALL BUSINESS ADMINISTRATION

13 CFR Part 121

RIN 3245-AG29

Small Business Size Standards; Educational Services; Correction

AGENCY: U.S. Small Business Administration.

ACTION: Correcting amendment.

SUMMARY: This document corrects the U.S. Small Business Administration's (SBA) final rule that appeared in the Federal Register on Monday, September 24, 2012. The rule, effective October 24, 2012, increased small business size standards for nine industries in North American Industry Classification System (NAICS) Sector 61, Educational Services, while retaining the existing size standards for the remaining eight industries and the Job Corps Centers exception under NAICS 611519, Other Technical and Trade Schools, within that Sector. However, the Job Corps Centers exception and its size standard were deleted in error from SBA's table of size standards. This correction reinstates the Job Corps Centers exception under NAICS 611519 and its $35.5 million size standard.

DATES: Effective June 17, 2013 and is applicable beginning October 24, 2012.

FOR FURTHER INFORMATION CONTACT: Khem Sharma, Chief, Office of Size Standards, U.S. Small Business Administration, 409 Third Street SW., Washington, DC 20416.

SUPPLEMENTARY INFORMATION: In FR Doc. 2012-23373, appearing on page 58739 in the September 24, 2012 issue of the Federal Register (77 FR 58739) a correction is necessary on page 58746. Specifically, SBA increased the size standard for NAICS 611519 from $7 million to $14 million in average annual receipts but retained the $35.5 million size standard for the Job Corps Centers exception to that industry. The supplementary information in the final rule provided a detailed explanation of why SBA was retaining its current $35.5 million size standard for the Job Corps Centers exception. However, the Job Corps Centers exception to NAICS 611519 and its size standard were deleted in error from SBA's table of size standards in 13 CFR 121.201.

Need for Correction

This action is needed to correct the table in 13 CFR 121.201 by reinstating the Job Corps Centers exception under NAICS 611519 and its corresponding $35.5 million size standard. As published, the final rule and CFR can lead a reader to conclude incorrectly that SBA deleted the Job Corps Centers exception and its $35.5 million size standard from SBA's table of size standards. SBA had explained in the final rule why it was retaining the existing $35.5 million size standard for Job Corps Centers instead of changing it. When the rule was published in the Federal Register, the entry for “611519” was revised, with no change to the $35.5 million size standard for the Job Corps Centers exception under that entry. However, this appears to have been read as the removal of Job Corps Centers exception and its $35.5 million size standard, resulting in their deletion from the table in 13 CFR 121.201.

List of Subjects in 13 CFR Part 121

Administrative practice and procedure, Government procurement, Government property, Grant programs—business, Individuals with disabilities, Loan programs—business, Reporting and recordkeeping requirements, Small businesses.

For the reasons set forth in the preamble, SBA amends 13 CFR part 121 by making the following correcting amendment:

PART 121—SMALL BUSINESS SIZE REGULATIONS

1. The authority citation for part 121 is revised to read as follows:

Authority: 15 U.S.C. 632, 634(b)(6), 662, 694a(9).

2. In § 121.201, in the table, revise the entry for “611519” to read as follows:

§ 121.201 What size standards has SBA identified by North American Industry Classification System codes?

* * * * *

Small Business Size Standards by NAICS Industry
NAICS Code | NAICS U.S. industry title | Size standards in millions of dollars | Size standards in number of employees
* * * * * * *
611519 | Other Technical and Trade Schools | $14.0 |
Except, | Job Corps Centers ¹⁶ | ¹⁶ 35.5 |
* * * * * * *
* * * * * * *
¹⁶ NAICS codes 611519—Job Corps Centers. For classifying a Federal procurement, the purpose of the solicitation must be for the management and operation of a U.S. Department of Labor Job Corps Center. The activities involved include admissions activities, life skills training, educational activities, comprehensive career preparation activities, career development activities, career transition activities, as well as the management and support functions and services needed to operate and maintain the facility. For SBA assistance as a small business concern, other than for Federal Government procurements, a concern must be primarily engaged in providing the services to operate and maintain Federal Job Corps Centers.

* * * * *

Dated: June 11, 2013.
Calvin Jenkins,
Deputy Associate Administrator for Government Contracting and Business Development.

[FR Doc. 2013-14263 Filed 6-14-13; 8:45 am]

BILLING CODE 8205-01-P